DEPARTMENT OF AGRICULTURE

Commodity Credit Corporation

Opportunity To Submit Application To Conduct Pilot Project for Harvesting of Biomass From Land Enrolled in the Conservation Reserve Program To Be Used for Energy Production

AGENCY: Commodity Credit Corporation, USDA.

ACTION: Notice of opportunity to submit application.

SUMMARY: Up to six pilot projects, no more than one of which may be in any State, may be authorized for the harvest of biomass from land enrolled in the Conservation Reserve Program (CRP) to be used for energy production. Applications for conducting pilot projects of the harvest of biomass from land enrolled in the CRP for energy production may be submitted to the Commodity Credit Corporation.

DATES: Applications must be postmarked on or before December 19, 2000.

ADDRESSES: Applications will be accepted by the Farm Service Agency (FSA) State Executive Director in the respective State in which the pilot project is proposed to be conducted. State FSA office addresses are provided in Exhibit 1.

FOR FURTHER INFORMATION CONTACT: Beverly Preston, Agricultural Program Specialist, Conservation Programs Branch, Conservation and Environmental Programs Division, FSA, at (202) 720-9563.

SUPPLEMENTARY INFORMATION:

General Provisions

Section 769 of the Agriculture, Rural Development, Food and Drug Administration, and Related Agencies Act, 2000 (Pub. L. 106-78), amended Section 1232(a)(7) of the Food Security Act of 1985 to provide new authority to use Conservation Reserve Program land for pilot biomass projects. Specifically, Section 769 provided that the Secretary shall approve not more than six projects, no more than one of which may be in any State, under which land subject to the contracts may be harvested for recovery for biomass used in energy production if: (i) No acreage subject to the contract is harvested more than once every other year and (ii) not more than 25 percent of the total acreage enrolled in the program in any crop reporting district (as designated by the Secretary) is harvested in any 1 year. The statute specified that no portion of the crop on the pilot land could be used for any commercial purpose other than energy production from biomass, and instructed the Secretary that this allowance would not include the harvesting of any wetland, or any acreage of any type enrolled in a partial field conservation practice (including riparian forest buffers, filter strips, and buffer strips). It was also specified in the statute that the owner or operator must agree to a CRP payment reduction in an amount determined by the Secretary, and that the total acres for all of the projects could not exceed 250,000 acres.

This notice sets out the terms under which pilot projects will be considered and the questions that must be answered on the application so that a considered choice may be made in choosing which projects to approve. The conditions set on the application process, as set forth in this notice, generally follow the terms of the statute. However, as set forth in this notice, it is proposed here that individual pilot projects will not generally be approved if they exceed 50,000 acres. This limit would allow for a diversity of projects to be approved and thus encourage the benefits of the pilot project. Also, this notice specifies that land which is committed to certain CRP practices cannot, generally, be included in the pilot project, as in certain cases the loss of conservation benefits would be too great. Finally, as specified in this notice, pilot projects will not be approved except upon the understanding, as set forth in this notice, that the individual CRP participants participating in the project agreed to a 25 percent reduction of the annual rental payment they would normally receive in the CRP for each year in which the acreage is harvested; this reduction is designed to offset any loss in conservation benefits which the CCC might otherwise have received under the participant's original CRP contract, and also reflects anticipated financial benefits which the participants in any pilot programs may realize as a result of such harvesting. While the terms of the program as outlined here reflect the current view of the agency as to how the program should operate and the limitations which should apply, members of the public are free in their submissions to suggest that the limitations, to the extent that they are not statutory, should not apply or, for that matter, that other limitations should apply.

Regulatory Authority: The CRP is administered under the regulations at 7 CFR part 1410.

Acreage Limitation: Pilot projects approved under this authority may not exceed, in the aggregate, 250,000 acres, and an individual pilot project may not exceed 50,000 acres, unless approved by CCC.

Length of Pilot Project: Pilot projects must be conducted for a minimum period of 10 years.

Eligible Land: All land enrolled in the CRP, subject to other restrictions outlined here, is eligible to be included in a pilot project except for land: devoted to field windbreaks, waterways, shallow water areas for wildlife, contour grass strips, shelter belts, living snow fences, permanent vegetation to reduce salinity, salt tolerant vegetative cover, filter strips, riparian buffers, wetland restoration, and cross wind trap strips; within an approved public wellhead protection area not to exceed a radius of 2,000 feet from an approved public wellhead; with an erodibility index of more than 15; within 1,000 feet of a stream or other waterbody; or, considered a wetland under 7 CFR part 12.

Biomass Harvest Provisions: Not more than 25 percent of the total acreage enrolled in the CRP in any National Agricultural Statistics Service (NASS) Crop Reporting District may be harvested using this pilot project authority in any 1 year. NASS Crop Reporting Districts are attached as Exhibit 2.

No portion of the harvested crop may be used for any purpose other than energy production from biomass. Participants are responsible for the restoration, at their own expense, of any cover damaged by harvesting, including reseeding if necessary.

Payment Reduction During Harvest: To be approved for this pilot project, CRP participants must agree to a reduction in the CRP annual rental payment equal to 25 percent of the annual rental payment for each year in which the acreage is harvested.

Definitions

The following definitions are applicable to applications to conduct a pilot project for the harvest of biomass from land enrolled in the CRP to be used for energy production:

Biomass means any eligible vegetative cover that is an approved cover for use in the Conservation Reserve Program.

Crop reporting district means those areas defined as NASS Crop Reporting Districts.

Harvest means the cutting of the biomass cover regardless of removal or use.

Required Application Information

Applications for pilot projects must be submitted to the State Executive Director of the State FSA office where the proposed pilot project is to be conducted and must provide, at a minimum, all of the following information:

Proposed Pilot Project General Information

1. Name.

2. Location (State and county or counties).

3. Size (total acres) and extent including map.

4. Physical features including soil, geology, plant, and animal resources.

5. Distance to biomass facility.

Biomass Facility Information

6. Name.

7. Location.

8. Logistical issues (roads, bridges, etc.).

Project Area Description

9. The specific type(s) and variety of cover proposed to be harvested.

10. Assurances to ensure that all harvesting limitations will not be exceeded.

11. Assurances that the cover will be reseeded, if applicable, after harvest.

12. How the harvested material will be transported to the energy production facility.

13. An estimate of the time needed from planting of biomass cover to first harvest to the use of harvested material as energy production.

14. A detailed statement of all budgetary outlays for each proposed project.

15. A detailed statement of the expected results of the project.

16. An environmental, social, economic, and environmental justice analysis of the impact of the planting and harvesting and proposed use of the biomass material on erosion control, wildlife and wildlife habitat, water quality, and air quality.

17. How the applicant will provide for protection of cultural resources present on the acreage in the project area.

18. A list of all environmental permits needed to conduct the proposed project and how and when the permits will be obtained.

19. A detailed statement of the goals, including expected completion dates, of the project.

20. A detailed statement outlining the monitoring process of the project, including who will conduct the monitoring process.

21. An analysis of the impact the project may have on regional and local economies, including if the producer participating in the project will receive any compensation, monetary or otherwise, from the harvested biomass.

22. A description of what, if any, public input or comments were elicited or obtained regarding the proposed project.

Energy Use Information

23. The type of energy proposed to be produced from the biomass.

24. How the biomass will be used for energy production, including a comparative analysis of the current energy source and proposed biomass energy source.

25. How and when (time of year) the biomass is proposed to harvested.

26. An estimate of the amount of material that must be harvested to meet the pilot project(s) goals.

Signed at Washington, D.C., on October 12, 2000.
Parks Shackelford,
Executive Vice President, Commodity Credit Corporation.

Exhibit 1

State FSA Office Addresses

Alabama State FSA Office, 4121 Carmichael Road, Suite 600, Montgomery, AL 36106-2872

Alaska State FSA Office, 800 West Evergreen, Suite 216, Palmer, AK 99645-6389

Arizona State FSA Office, 77 East Thomas Road, Suite 240, Phoenix, AZ 85012-3318

Arkansas State FSA Office, Federal Building, Room 3416, 700 West Capitol, Little Rock, AR 72201-3225

California State FSA Office, 430 G Street # 4161, Davis, CA 95616

Colorado State FSA Office, 655 Parfet St., Suite E-305, Lakewood, CO 80215-5517

Connecticut State FSA Office, 88 Day Hill Road, Windsor, CT 06095

Delaware State FSA Office, 1201 College Park Drive, Suite 101, Dover, DE 19904-8713

Florida State FSA Office, 4440 N.W. 25th Pl., Suite 1, Gainesville, FL 32606

Georgia State FSA Office, Federal Building, Room 102, 355 East Hancock Ave., Athens, GA 30603-1907

Hawaii State FSA Office, 300 Ala Moana Blvd., Room 5-112, P.O. Box 50008, Honolulu, HI 96850

Idaho State FSA Office, 9173 W. Barnes, Suite B, Boise, ID 83709-1555

Illinois State FSA Office, 3500 Wabash, P.O. Box 19273, Springfield, IL 62794-9273

Indiana State FSA Office, 5981 Lakeside Blvd., Indianapolis, IN 46278

Iowa State FSA Office, 10500 Buena Vista Court, Des Moines, IA 50322

Kansas State FSA Office, 3600 Anderson Ave., Manhattan, KS 66503-2511

Kentucky State FSA Office, 771 Corporate Dr., Suite 100, Lexington, KY 40503-5478

Louisiana State FSA Office, 3737 Government Street, Alexandria, LA 71302-3395

Maine State FSA Office, 967 Illinois Ave., Bangor, ME 04401

Maryland State FSA Office, 8335 Guilford Rd., Suite E, Columbia, MD 21046

Massachusetts State FSA Office, 445 West Street, Amherst, MA 01002-2994

Michigan State FSA Office, 3001 Coolidge Rd., Suite 350, East Lansing, MI 48823-6321

Minnesota State FSA Office, 375 Jackson Street, Suite 400, St. Paul, MN 55101-1852

Mississippi State FSA Office, 6310 I-55 North, Jackson, MS 39211

Missouri State FSA Office, Suite 225, Parkade Plaza, 601 Bus. Loop 70 West, Columbia, MO 65203

Montana State FSA Office, 10 East Babcock Street, P.O. Box 670, Bozeman, MT 59771-0670

Nebraska State FSA Office, 7131 A Street, Lincoln, NE 68501-7975

Nevada State FSA Office, 1755 E. Plumb Lane, Suite 202, Reno, NV 89502

New Hampshire State FSA Office, 22 Bride St., 4th Floor, Concord, NH 03301-4987

New Jersey State FSA Office, Mastoris Professional Plaza, 163 Rt. 130, Bldg. 2, Suite E, Bordentown, NJ 08505-2249

New Mexico State FSA Office, 6200 Jefferson St., NE, Room 211, Albuquerque, NM 87109

New York State FSA Office, 441 S. Saline St., Suite, 356, 5th Floor, Syracuse, NY 13202-2455

North Carolina State FSA Office, 4407 Bland Road, Suite 175, Raleigh, NC 27609-6296

North Dakota State FSA Office, 1025 28th St., SW, Fargo, ND 58103

Ohio State FSA Office, 540 Federal Building, 200 N. High Street, Columbus, OH 43215

Oklahoma State FSA Office, 100 USDA, Suite 102, Farm Rd. & McFarland St., Stillwater, OK 74074-2653

Oregon State FSA Office, 7620 S.W. Mohawk, Tualatin, OR 97062-8121

Pennsylvania State FSA Office, One Credit Union Place, Suite 320, Harrisburg, PA 17110-2994

Puerto Rico FSA Office, Cobian's Plaza Building—Rm. 301, 1607 Ponce de Leon Ave., Santurce, Puerto Rico 00909-1815

Rhode Island State FSA Office, 60 Quaker Lane, Suite 40, Warwick, RI 02886-0111

South Carolina State FSA Office, 1927 Thurmond Mall, Suite 100, Columbia, SC 29201-2375

South Dakota State FSA Office, 200 Fourth St., SW, Room 308, Huron, SD 57350-2478

Tennessee State FSA Office, 579 U.S. Courthouse, 801 Broadway, Nashville, TN 37203-3816

Texas State FSA Office, 2405 Texas Ave. South, College Station, TX 77840

Utah State FSA Office, P.O. Box 11350, 125 South State Street., 346 Shelburne St., Salt Lake City, UT 84147-0350

Vermont State FSA Office, Executive Square Office Bldg., Rm. 4329, Burlington, VT 05401-4995

[FR Doc. 00-27046 Filed 10-19-00; 8:45 am]

BILLING CODE 3410-05-P